DEPARTMENT OF LABOR

Employment and Training Administration

Employment Standards Administration

Announcement of Public Briefings on Using the New H-2A Temporary Agricultural Labor Certification Program

AGENCIES: Employment and Training Administration; Wage and Hour Division, Employment Standards Administration, Labor.

ACTION: Notice of meeting.

SUMMARY: The Office of Foreign Labor Certification (OFLC) in the Department of Labor's Employment & Training Administration (ETA) has been re-engineering several of its programs, including the H-2A foreign agricultural worker labor certification program. The Wage and Hour Division (WHD) of the Employment Standards Administration (ESA) has been amending contractual obligations applicable to employers of workers subject to Section 218 of the Immigration and Nationality Act (INA). The Department published a Notice of Proposed Rulemaking (NPRM) to redesign the H-2A agricultural labor certification program on February 13, 2008. The Department is currently reviewing public comments on this proposed rule and intends to publish final regulations before the end of the calendar year. In addition, the Department of Homeland Security (DHS) has published an NPRM to amend its H-2A regulations and intends to publish a final rule before the end of the calendar year as well.

Pursuant to the Department of Labor final rule, changes to information collection and regulatory requirements will affect the application forms. The H-2A program will no longer use the Form ETA 750 (OMB control number 1205-0015). Instead the program will utilize the new Form ETA 9142 (OMB control number 1205-0466). The new regulations also federalize the prevailing wage determination process in the H-2A program.

ETA and ESA are issuing this notice to announce that they will offer at least two public briefings to educate stakeholders, program users, and other interested members of the public on using the re-engineered program and new form. Representatives from DHS will also be joining the Department of Labor at the briefing sessions. As currently planned, the two briefings will take place in late 2008 in Atlanta and Denver. This notice provides the public with locations, dates, and registration information regarding the briefings. However, these briefings are subject to change and/or cancellation without further notice in the Federal Register. In the event of a change participants who have registered will be notified.

Time and Dates

1. Friday, December 12, 2008, Atlanta, Georgia.

Time: 8:30 a.m. to 3 p.m.

2. Monday, December 15, 2008, Denver, Colorado.

Time: 8:30 a.m. to 3 p.m.

ADDRESSES: The meeting locations are:

1. Atlanta—Marriott Marquis, 265 Peachtree Center Avenue, NE, Atlanta, Georgia 30303.

2. Denver—Hyatt Regency Denver, 650 15th Street, Denver, Colorado, 80202.

To Register: To register for a briefing session please complete the registration process on-line, by visiting http://www.dtiassociates.com/oflcbriefings. For questions regarding the registration process, please call (703) 299-1623 (this is not a toll-free number). Due to space considerations, attendance will be limited to those who register online. In the event of cancellation or change, participants will be notified.

FOR FURTHER INFORMATION CONTACT: For further information regarding ETA's portion of the briefing, contact William Carlson, Ph.D., Administrator, Office of Foreign Labor Certification, Employment and Training Administration, 200 Constitution Avenue, NW., Room C-4312, Washington, DC 20210; Telephone: (202) 693-3010 (this is not a toll-free number). For further information regarding ESA's portion of the briefing, contact James Kessler, Farm Labor Team Leader, Wage and Hour Division, Employment Standards Administration, U.S. Department of Labor, 200 Constitution Avenue, NW., Room S-3510, Washington, DC 20210; Telephone (202) 693-0070 (this is not a toll-free number).

SUPPLEMENTARY INFORMATION: The registration information should be used by any member of the public planning to attend a briefing session. The agenda assumes publication of both Department of Labor and Department of Homeland Security final rules.

Signed in Washington, DC, this 1st day of December 2008.
Brent R. Orrell,
Deputy Assistant Secretary, Employment and Training Administration.
Alexander J. Passantino,
Administrator, Wage and Hour Division, Employment Standards Administration.

[FR Doc. E8-28847 Filed 12-4-08; 8:45 am]

BILLING CODE 4510-FP-P